DEPARTMENT OF COMMERCE

International Trade Administration

[A-570-601]

Extension of Time Limit for the Preliminary Results of Antidumping Duty Administrative Review: Tapered Roller Bearings, and Parts Thereof, Finished or Unfinished, From the People's Republic of China

AGENCY: Import Administration, International Trade Administration, Department of Commerce

DATES: Effective Date: April 5, 2005.

FOR FURTHER INFORMATION CONTACT: Laurel Lacivita or Eugene Degnan, AD/CVD Operations, Office 8, Import Administration, International Trade Administration, U.S. Department of Commerce, 14th Street and Constitution Avenue, NW., Washington, DC 20230; telephone (202) 482-4243 or (202) 482-0414, respectively.

Background

On July 28, 2004, the Department of Commerce (“the Department”) published in the Federal Register a notice of initiation of the antidumping duty administrative review of tapered roller bearings and parts thereof, finished or unfinished, from the People's Republic of China for the period June 1, 2003, through May 31, 2004. See Initiation of Antidumping and Countervailing Duty Administrative Reviews and Request for Revocation in Part, 69 FR 45010 (July 28, 2004). On February 4, 2005, the Department published in the Federal Register a notice extending the time limit for the preliminary results of the administrative review from March 2, 2005, to May 1, 2005. See Extension of Time Limit for the Preliminary Results of Antidumping Duty Administrative Review: Tapered Roller Bearings, and Parts Thereof, Finished or Unfinished From the People's Republic of China 70 FR 5967 (February 4, 2005). The preliminary results of review are currently due no later than May 1, 2005.

Extension of Time Limit for Preliminary Results

Section 751(a)(3)(A) of the Tariff Act of 1930, as amended (“the Act”), states that, if it is not practicable to complete the review within the time specified, the administering authority may extend the 245-day period to issue its preliminary results by up to 120 days. Completion of the preliminary results of this review within the 245-day period is not practicable because the Department needs additional time to conduct verification of two companies' questionnaire responses (one of which requested revocation), to analyze the information pertaining to these companies' verifications, and to review supplemental questionnaire responses of the third company.

Because it is not practicable to complete this review within the time specified under the Act, we are fully extending the time period for issuing the preliminary results of review to 365 days until June 30, 2005, in accordance with section 751(a)(3)(A) of the Act. The final results continue to be due 120 days after the publication of the preliminary results of review.

Dated: March 29, 2005.
Barbara E. Tillman,
Acting Deputy Assistant Secretary for Import Administration.

[FR Doc. E5-1538 Filed 4-4-05; 8:45 am]

BILLING CODE 3510-DS-P